DEPARTMENT OF AGRICULTURE

Submission for OMB Review; Comment Request

October 8, 2020.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding these information collections are best assured of having their full effect if received by November 13, 2020. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service

Title: Agricultural Prices.

OMB Control Number: 0535-0003.

Summary of Collection: The Agricultural Prices surveys provide data on the prices received by farmers and prices paid for production goods and services. This information is needed by the U.S. Department of Agriculture, National Agriculture Statistics Service (NASS) for the following purposes: (a) To compute Parity Prices in accordance with requirements of the Agricultural Adjustment Act of 1938 as amended (Title III, Subtitle A, Section 301a, (b) to estimate value of production, inventory values, and cash receipts from farming, (c) to determine the level for farmer owned reserves, (d) to provide guidelines for Risk Management Agency price selection options, (e) to determine Federal disaster prices to be paid, (f) establishing USDA's net farm income projections by the Economic Research Service and (g) to determine the grazing fee on Federal lands. General authority for these data collection activities is granted under U.S. Code Title 7, Section 2204.

Revisions were made to reflect the following program changes made to the Prices Received surveys. The Prices Received survey for sugar and the annual Livestock and Crops Survey in Alaska, were both discontinued. Some of the States that were conducting monthly milk price surveys dropped back to collecting the data quarterly. There are no program changes made to the Prices Paid surveys. The remainder of the changes are adjustments to the sample sizes and burden minutes.

Need and Use of the Information: The NASS price program computes annual U.S. weighted average prices received by farmers for wheat, barley, oats, corn, grain sorghum, rice, cotton, peanuts, pulse crops and oilseeds based on monthly marketing. Estimates of prices received are used by NASS to determine the value of agricultural production. Prices estimates are used by many Government agencies as a general measure of commodity price changes, economic analysis relating to farm income and alternative marketing policies, and for disaster and insurance payments. NASS estimates based on these surveys are used as a Principle Economic Indicator of the United States. These price estimates are also used to compute Parity Prices in accordance with requirements of the Agricultural Adjustment Act of 1938 as amended (Title III, Subtitle A, Section 301(a)).

Description of Respondents: Farms; Business or other for-profit.

Number of Respondents: 67,025.

Frequency of Responses: Reporting: On occasion; Monthly; Annually; Biennially.

Total Burden Hours: 32,416.

Levi S. Harrell,
Departmental Information Collection Clearance Officer.

[FR Doc. 2020-22689 Filed 10-13-20; 8:45 am]

BILLING CODE 3410-20-P